DEPARTMENT OF THE INTERIOR

Bureau of Land Management

[NV-056-5853-EU; N-77348; 8-08807; TAS:14X5232]

Notice of Realty Action: Direct Sale of Public Lands in Clark County, NV

AGENCY: Bureau of Land Management, Interior.

ACTION: Notice.

SUMMARY: The Bureau of Land Management (BLM) proposes to offer by non-competitive sale one parcel of public land totaling approximately 3.75 acres in the Las Vegas Valley to Nhu Thi Tran. The sale will be under the authority of the Southern Nevada Public Land Management Act of 1998 (Pub. L. 105-263, 112 Stat. 2343), as amended, (SNPLMA). The land will be offered non-competitively as a direct sale in accordance with the applicable provisions of Sections 203 and 209 of the Federal Land Policy Management Act of 1976 (FLPMA) (43 U.S.C. 1713 and 1719), and BLM land sale and mineral conveyance regulations at 43 CFR Parts 2710 and 2720 at not less than the appraised fair market value (FMV) of the parcel.

DATES: Interested parties may submit written comments regarding the proposed sale until September 25, 2008.

ADDRESSES: Mail written comments to the BLM Field Manager, Las Vegas Field Office, 4701 N. Torrey Pines Drive, Las Vegas, NV 89130.

FOR FURTHER INFORMATION CONTACT: Brenda Wilhight, (702) 515-5172.

SUPPLEMENTARY INFORMATION: The following described public land, parcel N-77348, is located southeast of Las Vegas, Nevada. There is no physical and legal access to the parcel. The parcel is legally described as:

Mount Diablo Meridian, Nevada

T. 21 S., R. 62 E.,

sec. 28, NW¼SE¼SE¼SW¼, N½NE¼SW¼SE¼SW¼.

The area described contains 3.75 acres, more or less.

This parcel of public land is proposed for sale to Nhu Thi Tran at no less than the FMV as determined by the authorized officer after appraisal. An appraisal report has been prepared by a state certified appraiser for the purposes of establishing FMV. The FMV of the parcel to be offered for sale is $6,800. The appraisal report is available for public review at the BLM Las Vegas Field Office.

Nhu Thi Tran is requesting to purchase the parcel of public lands surrounded by her private land and U.S. Highway 95. There is no legal access to the parcel from the highway or otherwise.

Federal regulations governing sales of public land at 43 CFR 2711.3-3 state that direct sale (without competition) may be utilized, when in the opinion of the authorized officer, a competitive sale is not appropriate and the public interest would best be served by direct sale. Examples include, but are not limited to the adjoining ownership pattern and access indicates a direct sale is appropriate. Once the authorized officer has determined that the lands will be offered by direct sale and such determination has been issued, published and sent in accordance with procedures of this part, payment shall be made by certified check, postal money order, bank draft or cashier's check made payable to the Bureau of Land Management as outlined in 43 CFR 2711.3-1(c) of this subpart. Failure to accept an offer to purchase the offered lands within the time specified by the authorized officer shall constitute a waiver of this preference consideration.

This federal parcel is bordered on three sides by private lands owned by Nhu Thi Tran and on the fourth side by U.S. Highway 95. The subject parcel contains 3.75 acres and has .9 usable acre after deducting the U.S. Highway 95 right-of-way. Due to the parcel's triangular shape, lack of access, encumbrances with high voltage power lines and the freeway right-of-way, there is minimal use and value. Based on the lack of public use and value, Tran's land surrounding the property, and because no public ingress and egress has been provided to these lands, the authorized officer has concluded that a direct sale is warranted.

This sale is in conformance with the Las Vegas Resource Management Plan, approved October 5, 1998. BLM has determined that the sale action conforms to the land use plan decision LD-1 under the authority of FLPMA. The land contains no other known public values. The parcel has not been identified for transfer to the State or any other local government or non-profit organization. The environmental assessment, master title plat map, and approved appraisal report dated July 17, 2008, covering the proposed sale are available for review at the Las Vegas Field Office.

Certain minerals from this parcel will be reserved to the United States in accordance with the BLM's approved Mineral Potential Report, dated January 22, 1999. Minerals to be reserved to the United States are all leasable and all saleable minerals. Acceptance of the offer to purchase will constitute an application for conveyance of the “no known value” mineral interests. In conjunction with the final payment, the applicant for “no known value” mineral interests will be required to pay a $50 non-refundable filing fee for processing the conveyance of the mineral interest which will be sold simultaneously with the surface interests.

Terms and Conditions of Sale: The patent issued would contain the following numbered reservations, covenants, terms and conditions:

1. All leasable and saleable mineral deposits are reserved to the United States, its permittees, licensees, and lessees together with the right to prospect for, mine, and remove the minerals under applicable law and such regulations as the Secretary of the Interior may prescribe, along with all necessary access and exit;

2. A right-of-way is reserved for ditches and canals constructed by authority of the United States under the Act of August 30, 1890 (43 U.S.C. 945);

3. Those rights for federal highway purposes reserved to the Federal Highway Administration, its successors and assigns, by right-of-way No. N-38756, pursuant to the Act of August 27, 1958 (23 U.S.C. 317(A));

4. The parcel is subject to valid existing rights;

5. Those rights for transmission line and fiber optic line purposes which has been granted to Nevada Power Co., its successors and assigns, by right-of-way Nos. N-43249 and N-84708, pursuant to the Act of October 21, 1976 (43 U.S.C. 1761);

6. By accepting this patent, the patentee agrees to indemnify, defend and hold the United States harmless from any costs, damages, claims, causes of action, penalties, fines, liabilities, and judgments of any kind or nature arising from the past, present, and future acts or omissions of the patentee, its employees, agents, contractors, or lessees, or any third-party, arising out of, or in connection with, the patentees use, occupancy, or operations on the patented real property. This indemnification and hold harmless agreement includes, but is not limited to, acts and omissions of the patentee, its employees, agents, contractors, or lessees, or third party arising out of or in connection with the use and/or occupancy of the patented real property resulting in: (1) Violations of federal, state, and local laws and regulations applicable to the real property; (2) Judgments, claims or demands of any kind assessed against the United States; (3) Costs, expenses, damages of any kind incurred by the United States; (4) Other releases or threatened releases on, into or under land, property and other interests of the United States by solid or hazardous waste(s) and/or hazardous substances(s), as defined by federal or state environmental laws; (5) Other activities by which solid or hazardous substances or wastes, as defined by federal and state environmental laws were generated, released, stored, used or otherwise disposed of on the patented real property, and any cleanup response, remedial action, or other actions related in any manner to said solid or hazardous substances or wastes; (6) Or natural resource damages as defined by federal and state law. This covenant shall be construed as running with the patented real property, and may be enforced by the United States in a court of competent jurisdiction; and;

7. Pursuant to the requirements established by section 120(h) of the Comprehensive Environmental Response, Compensation and Liability Act, 42 U.S.C. 9620(h) (CERCLA), as amended by the Superfund Amendments and Reauthorization Act of 1988, 100 Stat. 1670, notice is hereby given that the above-described lands have been examined and no evidence was found to indicate that any hazardous substances have been stored for one year or more, nor had any hazardous substances been disposed of or released on the subject property.

The sale parcel is subject to reservations for road, public utilities and flood control purposes, both existing and proposed, in accordance with the local governing entities' transportation plans. Upon publication of this notice of realty action and until completion of the sale, the BLM is no longer accepting land use applications affecting the identified public land, except applications for the amendment of previously filed right-of-way applications or existing authorizations to increase the term of the grants in accordance with 43 CFR 2807.15 and 2886.15. Encumbrances that may appear in the BLM files for the parcel proposed for sale are available for review during business hours, 7:30 a.m.—4:30 p.m. PST, Monday through Friday, at the Las Vegas Field Office.

Maps delineating the individual proposed sale parcel and current appraisal for the parcel are available for public review at the Las Vegas Field Office.

No warranty of any kind, express or implied, is given by the United States as to the title, physical condition, or potential use of the parcel of land proposed for sale, and the conveyance of any such parcel will not be on a contingency basis. It is the buyer's responsibility to be aware of all applicable federal, state and local government policies and regulations that would affect the subject lands. It is also the buyer's responsibility to be aware of existing or prospective uses of nearby properties. Any land lacking access from a public road or highway will be conveyed as such, and future access acquisition will be the responsibility of the buyer.

Under 43 CFR 2711.3-1 (c) and (d), a deposit of not less than 20 percent of the federally approved FMV must be submitted, 30 days from the date of the sale offer, by 4:30 p.m. PST at the Las Vegas Field Office. Payment must be made in the form of certified check, postal money order, bank draft, or cashier's check made payable in U.S. dollars to the order of the DOI-Bureau of Land Management.

Failure to submit the deposit will result in forfeiture of the sale offer. Remainder of the purchase price must be paid within 180 calendar days following the date of the sale offer. Failure to pay the full price within the 180 days will disqualify the sale offer and cause the entire 20 percent deposit to be forfeited to the BLM. No exceptions will be made. BLM cannot accept the full price at any time following the 180th day after the sale offer. Payment must be received in the form of a certified check, postal money order, bank draft, or cashier's check made payable in U.S. dollars to the order of the DOI-Bureau of Land Management. Personal checks will not be accepted. Arrangements for electronic fund transfer to BLM for the balance due shall be made a minimum of two weeks prior to the date you wish to make payment.

The BLM may accept or reject any or all offers to purchase any parcel, or may withdraw any parcel of land or interest therein from sale, if, in the opinion of the authorized officer, consummation of the sale would not be fully consistent with the FLPMA or other applicable laws or is determined to not be in the public interest.

Public Comments: The subject parcel of land will not be sold prior to the expiration of 60 days from the date of publication of this notice of realty action. For a period until September 25, 2008, interested parties may submit written comments to the Las Vegas Field Office. Only written comments submitted by postal service or overnight mail will be considered as properly filed. Electronic mail, facsimile, or telephone comments will not be considered properly filed.

Before including your address, phone number, e-mail address, or other personal identifying information in your comment, you should be aware that your entire comment—including your personal identifying information—may be made publicly available at any time. While you can ask us in your comment to withhold your personal identifying information from public review, we cannot guarantee that we will be able to do so.

Any adverse comments regarding the proposed sale will be reviewed by the BLM Nevada State Director, who may sustain, vacate, or modify this realty action. In the absence of any adverse comments, this realty action will become the final determination of the Department of the Interior.

Authority: 43 CFR part 2711.

Dated: July 29, 2008.
Mary Jo Rugwell,
Las Vegas Field Manager.

[FR Doc. E8-18449 Filed 8-8-08; 8:45 am]

BILLING CODE 4310-HC-P